DEPARTMENT OF THE INTERIOR

Bureau of Safety and Environmental Enforcement

30 CFR Parts 250 and 254

Bureau of Ocean Energy Management

30 CFR Part 550

[Docket ID: BSEE-2013-0011; 15XE1700DX EX1SF0000.DAQ000 EEEE500000]

RIN 1082-AA00

Oil and Gas and Sulphur Operations on the Outer Continental Shelf—Requirements for Exploratory Drilling on the Arctic Outer Continental Shelf

AGENCY: Bureau of Safety and Environmental Enforcement (BSEE), Interior; Bureau of Ocean Energy Management (BOEM), Interior.

ACTION: Extension of comment period for Notice of Proposed Rulemaking

SUMMARY: BOEM and BSEE are extending the public comment period on the Notice of Proposed Rulemaking entitled, “Oil and Gas and Sulphur Operations on the Outer Continental Shelf—Requirements for Exploratory Drilling on the Arctic Outer Continental Shelf,” which was published in the Federal Register on February 24, 2015, (80 FR 9916). The original public comment period would have ended on April 27, 2015. However, BOEM and BSEE have received public comments requesting an extension of the comment period. BOEM and BSEE have reviewed the extension requests and determined that a 30-day comment period extension to May 27, 2015, is appropriate.

DATES: The comment period for the Notice of Proposed Rulemaking published on February 24, 2015, (80 FR 9916) has been extended. Written comments must be received by the extended due date of May 27, 2015. BOEM and BSEE may not fully consider comments received after this date. ADDRESSES: You may submit comments on the proposed rulemaking by any of the following methods. Please use the Regulation Identifier Number (RIN) 1082-AA00 as an identifier in your message. For comments specifically related to the draft Environmental Assessment conducted under the National Environmental Policy Act of 1969 (NEPA), please refer to NEPA in the heading of your message.

• Federal eRulemaking Portal: http://www.regulations.gov. In the entry entitled “Enter Keyword or ID”, enter BSEE-2013-0011 then click search. Follow the instructions to submit public comments and view supporting and related materials available for this rulemaking. BOEM and BSEE may post all submitted comments in their entirety.

• Mail or hand-carry comments to the Department of the Interior (DOI); Bureau of Safety and Environmental Enforcement; Attention: Regulations and Standards Branch; 45600 Woodland Road, Sterling, Virginia 20166. Please reference “Oil and Gas and Sulphur Operations on the Outer Continental Shelf—Requirements for Exploratory Drilling on the Arctic Outer Continental Shelf, 1082-AA00” in your comments and include your name and return address. Please note that this address for BSEE is new; however, any comments already submitted to BSEE's former address (381 Elden Street, Herndon, Virginia 20181) do not need to be resubmitted to the new address.

• Public Availability of Comments—Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Mark E. Fesmire, BSEE, Alaska Regional Office, mark.fesmire@bsee.gov, (907) 334-5300; John Caplis, BSEE, Oil Spill Response Division, john.caplis@bsee.gov, (703) 787-1364; or David Johnston, BOEM, Alaska Regional Office, david.johnston@boem.gov, (907) 334-5200.

SUPPLEMENTARY INFORMATION: BOEM and BSEE published a notice of proposed rulemaking on Requirements for Exploratory Drilling on the Arctic Outer Continental Shelf (OCS) on February 24, 2015 (80 FR 9916). This proposed rule is intended to provide regulations to ensure Arctic OCS exploratory drilling operations are conducted in a safe and responsible manner that takes into account the unique conditions of Arctic OCS drilling and Alaska Natives' cultural traditions and need to access subsistence resources. The Arctic region is known for its oil and gas resource potential, its vibrant ecosystems, and the Alaska Native communities, who rely on the Arctic's resources for subsistence and cultural traditions. The region is also characterized by extreme environmental conditions, geographic remoteness, and a relative lack of fixed infrastructure and existing operations.

The proposed rule would add to, and revise existing regulations in, 30 CFR parts 250, 254, and 550 for Arctic OCS oil and gas activities. The proposed rule would focus on Arctic OCS exploratory drilling activities that use mobile offshore drilling units, and related operations during the Arctic OCS open-water drilling season.

After publication of the proposed rule, BOEM and BSEE received public comments asking BOEM and BSEE to extend the comment period on the proposed rule by 60 days. BOEM and BSEE are extending the original 60-day comment period by an additional 30 days to provide additional time for review of and comment on the Notice of Proposed Rulemaking. Accordingly, written comments must be submitted by the extended due date of May 27, 2015. BOEM and BSEE may not fully consider comments received after this date.

Dated: April 14, 2015.
Janice M. Schneider,
Assistant Secretary Land and Minerals Management.

[FR Doc. 2015-09035 Filed 4-17-15; 8:45 am]

BILLING CODE 4310-VH-P; 4310-MR-P